NATIONAL SCIENCE FOUNDATION

Advisory Committee for Social, Behavioral and Economic Sciences; Notice of Meeting

In accordance with the Federal Advisory Committee Act (Pub. L. 92- 463, as amended), the National Science Foundation (NSF) announces the following meeting:

Name and Committee Code: Advisory Committee for Social, Behavioral and Economic Sciences (#1171).

Date and Time: December 6, 2018; 8:45 a.m. to 5 p.m., December 7, 2018; 9 a.m. to 1 p.m.

Place: National Science Foundation, 2415 Eisenhower Avenue, Room E 2030, Alexandria, VA 22314.

Type of Meeting: Open.

Contact Person: Dr. Deborah Olster, Office of the Assistant Director, Directorate for Social, Behavioral and Economic Sciences, National Science Foundation, 2415 Eisenhower Avenue, Alexandria, VA 22314; Telephone: (703) 292-8700.

Summary of Minutes: Posted on SBE advisory committee website at: https://www.nsf.gov/sbe/advisory.jsp.

Purpose of Meeting: To provide advice and recommendations to the National Science Foundation on major goals and policies pertaining to Social, Behavioral and Economic Sciences Directorate (SBE) programs and activities.

Agenda

• SBE Directorate Update

• NSF Sexual Harassment Policy

• Roundtable 1. Exciting SBE Research in AC Member Areas

• Roundtable 2. Communicating the Value of the SBE Sciences

• DARPA Technical Exchange on Complex Social Systems

• The Lab @DC

• Exploring NSF-NIH Collaborations in the SBE Sciences

• Meeting with NSF Leadership

• National Center for Science and Engineering Statistics (NCSES) Update

• Committee on Equal Opportunities in Science and Engineering (CEOSE) Update

• Advisory Committee for Environmental Research and Education (AC-ERE) Update

• Wrap-up, Assignments, Planning for Next SBE AC Meeting

Dated: November 14, 2018.
Crystal Robinson,
Committee Management Officer.

[FR Doc. 2018-25118 Filed 11-16-18; 8:45 am]

BILLING CODE 7555-01-P